DEPARTMENT OF DEFENSE

Department of the Air Force

[22-RI-PLA-01]

Notice of Intent To Grant an Exclusive License With a Joint Ownership Agreement

AGENCY: Department of the Air Force, Department of Defense.

ACTION: Notice of intent.

SUMMARY: Pursuant to the Bayh-Dole Act and implementing regulations, the Department of the Air Force hereby gives notice of its intent to grant an exclusive license with a joint ownership agreement to Traverse Operations Solutions, an LLC duly organized, validly existing, and in good standing in the State of North Carolina having a place of business at 132 Dragoon Court, Raeford, NC 28376.

DATES: Written objections must be filed no later than fifteen (15) calendar days after the date of publication of this Notice.

ADDRESSES: Submit written objections to Stephen Colenzo, AFRL/RI, 525 Brooks Road, Rome, New York 13441; or Email: stephen.colenzo@us.af.mil. Include Docket No. 22-RI-PLA-01 in the subject line of the message.

FOR FURTHER INFORMATION CONTACT: Stephen Colenzo, AFRL/RI, 525 Brooks Road, Rome, New York 13441; or Email: stephen.colenzo@us.af.mil.

Abstract of Patent Application(s)

A device has a host port, a remote terminal (RT), an incoming line driver, an outgoing line driver, and at least one of an incoming message filter and an outgoing message filter. The host port communicatively couples to a shared host bus. The RT port communicatively couples to the RT. The incoming message filter receives an incoming host message from the host port and generates a filtered host message from the incoming host message employing at least one host message rule. The outgoing message filter receives an outgoing RT message from the RT port and generates a filtered RT message from the outgoing RT message employing at least one RT message rule. The incoming line driver communicates the filtered host message to the RT port. The outgoing line driver communicates the filtered RT message to the host port.

Intellectual Property

—LINDERMAN, U.S. Patent No. 10,581,632, issued on 03 March 2020, and entitled “Data Transfer Filter.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2023-03787 Filed 2-22-23; 8:45 am]

BILLING CODE 5001-10-P